DEPARTMENT OF STATE

[Public Notice:11185]

Notice of Receipt of Request From the Government of the Federal Republic of Nigeria Under Article 9 of the 1970 UNESCO Convention on the Means of Prohibiting and Preventing the Illicit Import, Export and Transfer of Ownership of Cultural Property

AGENCY: Department of State.

ACTION: Notice.

SUMMARY: Notice of receipt of request from Nigeria for cultural property protection.

FOR FURTHER INFORMATION CONTACT: Anne Compton, Cultural Heritage Center, Bureau of Educational and Cultural Affairs: 202-632-6301; culprop@state.gov; include “Nigeria” in the subject line.

SUPPLEMENTARY INFORMATION: The Government of the Federal Republic of Nigeria made a request to the Government of the United States on March 13, 2020, under Article 9 of the 1970 UNESCO Convention on the Means of Prohibiting and Preventing the Illicit Import, Export and Transfer of Ownership of Cultural Property. Nigeria's request seeks U.S. import restrictions on archaeological and ethnological material representing Nigeria's cultural patrimony. Pursuant to the authority vested in the Assistant Secretary of State for Educational and Cultural Affairs, and pursuant to 19 U.S.C. 2602(f)(1), notification of the request is hereby published. A public summary of Nigeria's request and information about U.S. implementation of the 1970 UNESCO Convention will be available at the Cultural Heritage Center website: http://culturalheritage.state.gov.

Allison R. Davis,
Executive Director, CPAC, Bureau of Educational and Cultural Affairs, Department of State.

[FR Doc. 2020-18266 Filed 8-19-20; 8:45 am]

BILLING CODE 4710-05-P